DEPARTMENT OF THE TREASURY

Submission for OMB Review; Comment Request

January 23, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 1, 2001 to be assured of consideration.

Internal Revenue Service (IRS)

OMB Number: 1545-0742.

Regulation Project Number: EE-111-80 (TD 8019) Final.

Type of Review: Extension.

Title: Public Inspection of Exempt Organization Returns.

Description: Section 6104(b) authorizes the Internal Revenue Service to make available to the public the returns required to be filed by exempt organizations. The information requested in Treasury Regulations § 301.6104(b)-1(b)(4) is necessary in order for the Service not to disclose confidential business information furnished by businesses which contribute to exempt black lung trusts.

Respondents: Business or other for-profit.

Estimated Number of Respondents: 22.

Estimated Burden Hours Per Respondent: 1 hour.

Frequency of Response: Annually.

Estimated Total Reporting Burden: 22 hours.

OMB Number: 1545-1566.

Notice Number: Notice 97-66.

Type of Review: Extension.

Title: Certain Payments Made Pursuant to a Securities Lending Transaction.

Description: Notice 97-66 modifies final regulations which are effective November 14, 1997. The Notice relaxes the statement requirement with respect to substitute interest payments relating to securities loans and repurchased transactions. It also provides a withholding mechanism to eliminate excessive withholding on multiple payments in a chain of substitute dividend payments.

Respondents: Business or other for-profit.

Estimated Number of Respondents: 377,5000.

Estimated Burden Hours Per Respondent: 10 minutes.

Frequency of Response: Other (once).

Estimated Total Reporting Burden: 61,750 hours.

OMB Number: 1545-1588.

Regulation Project Number: REG-209682-94 (Final).

Type of Review: Extension.

Title: Adjustments Following Sales of Partnership Interests.

Description: Partnerships, with a section 754 election in effect, are required to adjust the basis of partnership property following certain transfers of partnership interests. The proposed regulations require the partnership to attach a statement to its partnership return indicating the adjustment and how it was allocated among the partnership property.

Respondents: Business or other for-profit.

Estimated Number of Respondents/Recordkeepers: 226,000.

Estimated Burden Hours Per Respondent/Recordkeepers: 4 hours.

Frequency of Response: On occasion.

Estimated Total Reporting/Recordkeeping Burden: 904,000 hours.

Clearance Officer: Garrick Shear. Internal Revenue Service Room 5244, 1111 Constitution Avenue, NW, Washington, DC 20224.

OMB Reviewer: Alexander T. Hunt, (202) 395-7860, Office of Management and Budget, Room 10202, New Executive Office Building, Washington, DC 20503.

Mary A. Able,
Departmental Reports, Management Officer.

[FR Doc. 01-2498 Filed 1-29-01; 8:45 am]

BILLING CODE 4830-01-P